DEPARTMENT OF TRANSPORTATION

Federal Aviation Administration

Public Notice for Waiver of Aeronautical Land-Use Assurance

AGENCY: Federal Aviation Administration (FAA), DOT.

ACTION: Notice of intent of waiver with respect to land; DuPage Airport, West Chicago, Illinois.

SUMMARY: The FAA is considering a proposal to change a 1.771-acre portion of airport land from aeronautical use to non-aeronautical use and to authorize the sale of airport property located at DuPage Airport, West Chicago, Illinois.

The subject portion of airport property considered for release from obligation to be maintained for aeronautical use and sale includes a 0.677-acre portion of Parcel 601 (83.62 total acres), a 0.298-acre portion of Parcel 8 (1.21 total acres), and a 0.795-acre portion of Tract A (136.95 total acres) that are located in the northeast quadrant of the airport along Illinois Route 64 (North Avenue) and currently not being used directly for aeronautical purposes. Currently, ownership of the property provides for protection of FAR Part 77 surfaces and compatible land use which would continue to be protected with deed restrictions required in the transfer of land ownership. The change from aeronautical to non-aeronautical use would allow for the widening of Route 64 which is directly adjacent to the airport. The aforementioned land is not needed for aeronautical use.

DATES: Comments must be received on or before January 27, 2014.

ADDRESSES: Documents are available for review by prior appointment at the FAA Airports District Office, Mr. Richard Pur, Airports Engineer, Federal Aviation Administration, Chicago Airports District Office, 2300 East Devon Avenue, Des Plaines, Illinois 60018. Telephone: (847) 294-7527/Fax: (847) 294-7046, and DuPage Airport Authority, 2700 International Drive, Suite 200, West Chicago, Illinois 60185, and (630) 584-2211.

Written comments on the Sponsor's request must be delivered or mailed to: Mr. Richard Pur, Airports Engineer, Federal Aviation Administration, Chicago Airports District Office, 2300 East Devon Avenue, Des Plaines, Illinois 60018. Telephone: (847) 294-7527/Fax: (847) 294-7046.

FOR FURTHER INFORMATION CONTACT: Mr. Richard Pur, Airports Engineer, Federal Aviation Administration, Chicago Airports District Office, 2300 East Devon Avenue, Des Plaines, Illinois 60018. Telephone: (847) 294-7527/Fax: (847) 294-7046.

SUPPLEMENTARY INFORMATION: In accordance with section 47107(h) of Title 49, United States Code, this notice is required to be published in the Federal Register 30 days before modifying the land-use assurance that requires the property to be used for an aeronautical purpose.

The acquisition of Parcel 601 was originally funded under Federal ADAP Grant 8-17-0017-01 in June, 1972, with Parcel 8 acquisition funded with local funds. Tract A was acquired via a Quitclaim Deed from the US Government and Reconstruction Finance Corporation (War Assets Administration) in December, 1947. The subject portions of those parcels are currently used for FAR Part 77 protection and to ensure compatible land use. The DuPage Airport Authority plans to sell the subject property to the Illinois Department of Transportation—Division of Highways for the purpose of improvements to be made on Illinois Route 64 (North Avenue) adjacent to the airport. Fair Market Value will be obtained from the sale of the subject property.

This notice announces that the FAA is considering the release of the subject airport property at DuPage Airport, West Chicago, Illinois, from Federal land covenants, subject to a reservation for continuing right of flight as well as restrictions on the released property as required in FAA Order 5190.6B Section 22.16. Approval does not constitute a commitment by the FAA to financially assist in the disposal of the subject airport property nor a determination of eligibility for grant-in-aid funding from the FAA. The use of the revenue generated from the sale of the airport property will be in accordance with FAA's Policy and Procedures concerning the Use of Airport Revenue, published in the Federal Register on February 16, 1999 (64 FR 7696).

Parcel 601-A—Subject Portion of Parcel 601 (Legal Description)

That part of the West Half of the West Half of Section 29, Township 40 North, Range 9 East of the Third Principal Meridian, Beginning at the intersection of the north right of way line of Illinois Route 64 (North Avenue and the west right of way of Powis Road per Document #95-67851; thence North 78 degrees 10 minutes 29 seconds West along said north right of way line a distance of 89.34 feet; thence North 51 degrees 30 minutes 35 seconds East a distance of 80.63 feet; thence North 00 degrees 33 minutes 42 seconds East a distance of 359.96 feet to the north line of the Southwest Quarter of said Section 29; thence South 89 degrees 25 minutes 44 seconds East a distance of 30.00 feet; thence South 02 degrees 17 minutes 34 seconds West a distance of 165.52 feet; thence South 00 degrees 33 minutes 42 seconds West a distance of 262.76 feet to the Point of Beginning.

Said parcel contains ± 13,037.99 square feet, ± 0.299 acres.

Parcel 601-B—Subject Portion of Parcel 601 (Legal Description)

That part of the West Half of the West Half of Section 29, Township 40 North, Range 9 East of the Third Principal Meridian, Commencing at the intersection of the north right of way line of Illinois Route 64 (North Avenue) and the west right of way line of Powis Road per Document #95-67851; thence North 78 degrees 10 minutes 29 seconds West along said north right of way line a distance of 89.34 feet; thence North 51 degrees 30 minutes 35 seconds East a distance of 80.63 feet; thence North 00 degrees 33 minutes 42 seconds East a distance of 359.96 feet to the Point of Beginning; thence North 00 degrees 30 minutes 50 seconds East a distance of 137.76 feet; thence South 89 degrees 29 minutes 10 seconds East a distance of 18.00 feet; thence North 00 degrees 30 minutes 50 seconds East a distance of 397.30 feet; thence South 89 degrees 29 minutes 10 seconds East a distance of 15.00 feet; thence North 00 degrees 30 minutes 50 seconds East a distance of 356.05 feet; thence South 89 degrees 29 minutes 10 seconds East a distance of 9.00 feet; thence South 00 degrees 30 minutes 50 seconds West a distance of 726.13 feet; thence North 89 degrees 29 minutes 10 seconds West a distance of 12.00 feet to a point on the west right of way line of Powis Road per Document #95-67851; thence South 00 degrees 30 minutes 50 seconds West along said right of way line a distance of 160.01 feet; thence North 89 degrees 25 minutes 44 seconds West a distance of 30.00 feet to the Point of Beginning.

Said parcel contains ± 16,485.33 square feet, ±0.378 acres.

Parcel 8-B—Subject Portion of Parcel 8 (Legal Description)

That Part of Tract 8 Lying within IDOT Parcel 1EA0006, described as follows.

That part of the Southwest Quarter of Section 29, Township 40 North, Range 9 East of the Third Principal Meridian, in DuPage County, State of Illinois, more particularly described as follows:

Beginning at the intersection of the South Right of Way line of North Avenue (Illinois Route 64) with the West Right of Way line of Powis Road per Document 95-67851; thence South 00 degrees 33 minutes 19 seconds West along the east line of IDOT Parcel 1EA 0006 a distance of 223.29 feet; thence continuing along said east line South 01 degrees 13 minutes 52 seconds East a distance of 111.18 feet to the south line of Tract 8; thence North 80 degrees 06 minutes 09 seconds West along said south line a distance of 30.91 feet to the west line of said IDOT Parcel 1EA0006; thence north along the west line of said IDOT Parcel, North 00 degrees 33 minutes 42 seconds East a distance of 90.69 feet, thence North 89 degrees 26 minutes 18 seconds West a distance of 11.00 feet; thence North 00 degrees 33 minutes 42 seconds East a distance of 198.39 feet; thence North 37 degrees 33 minutes 19 seconds West a distance of 72.17 feet to the southerly right of way line of North Avenue (Illinois Route 64); thence South 78 degrees 10 minutes 29 seconds East along said southerly right of way line a distance of 84.17 feet to the Point of Beginning.

Said part of Tract 8 as described lying within IDOT Parcel 1EA0006 contains +/- 12,974.3 square feet, +/- 0.298 Acres.

Parcel A-E—Subject Portion of Tract A (Legal Description)

That Part of Tract A lying within IDOT Parcel 1EA0006, described as follows.

That part of the Southwest Quarter of Section 29, Township 40 North, Range 9 East of the Third Principal Meridian, in DuPage County, State of Illinois, more particularly described as follows:

Commencing at the intersection of the South Right of Way line of North Avenue (Illinois Route 64) with the West Right of Way line of Powis Road per Document 95-67851; thence South 78 degrees 10 minutes 29 seconds East along the southerly extension of North Avenue (Illinois Route 64) a distance of 51.06 feet to the east line of the west half of the Southwest Quarter (SW ¼) of Section 29, Township 40 North, Range 9 East of the Third Principal Meridian; thence South 00 degrees 33 minutes 42 seconds West along said east line of the west half of the Southwest Quarter of Section 29 a distance of 758.35 feet to the south line of Right of Way Document 95-67851; thence North 89 degrees 28 minutes 49 seconds West a distance of 33.00 feet to the Point of Beginning: thence South 00 degree 33 minutes 42 seconds West a distance of 539.03 feet; thence west and north along and following IDOT Parcel 1EA0006, North 89 degrees 18 minutes 55 seconds West a distance of 35.00 feet: thence North 00 degree 33 minutes 42 seconds East a distance of 583.11 feet; thence North 89 degrees 18 minutes 55 seconds West a distance of 9.00 feet; thence North 00 degrees 33 minutes 42 seconds East a distance of 394.67 feet to the south line of Tract 8; thence South 80 degrees 06 minutes 09 East seconds along said south line a distance of 30.91 feet to the west line of Right of Way Document 95-67851; thence south and east along said right of way, South 01 degrees 13 minutes 52 seconds East a distance of 434.12 feet to the Point of Beginning.

Said Part of Tract A as described lying within IDOT Parcel 1EA0006 contains +/- 34,635.8 square feet, +/- 0.795 Acres.

Issued in Des Plaines, Illinois, on December 18, 2013.
James G. Keefer,
Manager, Chicago Airports District Office, Federal Aviaition Administration, Great Lakes Region.

[FR Doc. 2013-31073 Filed 12-26-13; 8:45 am]

BILLING CODE 4910-13-P